DEPARTMENT OF TRANSPORTATION

Federal Aviation Administration

14 CFR Part 39

[Docket No. FAA-2014-0730; Directorate Identifier 2013-NM-206-AD; Amendment 39-17984; AD 2014-20-11]

RIN 2120-AA64

Airworthiness Directives; Zodiac Seats France (formerly Sicma Aero Seat) Passenger Seat Assemblies

AGENCY: Federal Aviation Administration (FAA), Department of Transportation (DOT).

ACTION: Final rule; request for comments.

SUMMARY: We are superseding Airworthiness Directive (AD) 2011-07-05 for certain Sicma Aero Seat 9140, 9166, 9173, 9174, 9184, 9188, 9196, 91B7, 91B8, 91C0, 91C2, 91C4, 91C5, and 9301 series passenger seat assemblies; and Sicma Aero Seat 9501311-05, 9501301-06, 9501311-15, 9501301-16, 9501441-30, 9501441-33, 9501311-55, 9501301-56, 9501441-83, 9501441-95, 9501311-97, and 9501301-98 passenger seat assemblies. AD 2011-07-05 required a general visual inspection for cracking of backrest links, replacement with new links if cracking is found, and eventual replacement of all links with new links. This new AD requires a new general visual inspection for cracking of backrest links, which includes new seat backrest links; replacement with new links if cracking is found; and eventual replacement of all links with new links. This AD was prompted by a report that new seat backrest links could be affected by cracks similar to those identified on the backrest links with the previous design. We are issuing this AD to detect and correct cracks in the backrest links, which could affect the structural integrity of seat backrests. Failure of the backrest links could result in injury to an occupant during emergency landing conditions.

DATES: This AD becomes effective October 22, 2014.

The Director of the Federal Register approved the incorporation by reference of a certain publication listed in this AD as of October 22, 2014.

We must receive comments on this AD by November 21, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Zodiac Seats France, 7, Rue Lucien Coupet, 36100 ISSOUDUN, France; telephone +33 (0) 2 54 03 39 39; fax +33 (0) 2 54 03 39 00; email customerservices@sicma.zodiac.com; Internet http://www.sicma.zodiacaerospace.com/en/. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0730; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Jeffrey Lee, Aerospace Engineer, Boston Aircraft Certification Office (ACO), FAA, Engine & Propeller Directorate, 12 New England Executive Park, Burlington, MA 01803; telephone (781) 238-7161; fax (781) 238-7199; email: jeffrey.lee@faa.gov.

SUPPLEMENTARY INFORMATION:

Discussion

On March 14, 2011, we issued AD 2011-07-05, Amendment 39-16642 (76 FR 18020, April 1, 2011). AD 2011-07-05 applied to certain Sicma Aero Seat 9140, 9166, 9173, 9174, 9184, 9188, 9196, 91B7, 91B8, 91C0, 91C2, 91C4, 91C5, and 9301 series passenger seat assemblies; and Sicma Aero Seat 9501311-05, 9501301-06, 9501311-15, 9501301-16, 9501441-30, 9501441-33, 9501311-55, 9501301-56, 9501441-83, 9501441-95, 9501311-97, and 9501301-98 passenger seat assemblies; installed on, but not limited to, various transport category airplanes. AD 2011-07-05 was prompted by reports of cracks on certain backrest links. We issued AD 2011-07-05 to detect and correct cracking of backrest links, which could result in failure of the backrest links during emergency landing conditions and consequent injury to an occupant.

Since we issued AD 2011-07-05, Amendment 39-16642 (76 FR 18020, April 1, 2011), we received a report that new seat backrest links could be affected by cracks similar to those identified on the backrest links with the previous design.

The European Aviation Safety Agency (EASA), which is the Technical Agent for the Member States of the European Community, has issued EASA Airworthiness Directive 2012-0038, dated March 12, 2012 (referred to after this as the Mandatory Continuing Airworthiness Information, or “the MCAI”), to correct an unsafe condition for the specified products. The MCAI states:

On in-service passenger seats, some cracks were found on seat backrest link with part number (P/N) 90-000200-104-1 and 90-000200-104-2.

These cracks could significantly affect the structural integrity of the seat backrests. Failures of the seat backrests could result in injury to passengers or crew members during an emergency landing.

To prevent this condition, a life limit was introduced on the affected backrest links and their mandatory replacement was required by [a French AD] * * * [which corresponds to FAA AD 2011-07-05, Amendment 39-16642 (76 FR 18020, April 1, 2011)].

Since that [French] AD was issued, the seat manufacturer introduced new seat backrest links of similar design with P/N 90-000202-104-1 and P/N 90-000202-104-2 for passenger seat series 91B7, 91B8 and 91C5.

Further analysis showed that also the new seat backrest links are potentially affected by similar cracks to those identified on the backrest links with the previous design.

For the reasons described above, this [EASA] AD, which supersedes * * * [the French AD], requires visual inspections of the seat backrest links, the accomplishment of the applicable corrective actions as well as the replacement of the backrests links before reaching their life limit.

Failure of the backrest links could result in injury to an occupant during emergency landing conditions. The required actions include a general visual inspection for cracking of backrest links, replacement with new links if cracking is found, and eventual replacement of all links with new links.

We have also received additional information from the seat manufacturer regarding the airlines with the affected seats; all of the airlines with the affected seats are foreign air carriers. Since the affected seats are not installed on airplanes in the U.S. registry, we have revised the “Costs of Compliance” information in the preamble of this AD.

You may examine the MCAI on the Internet at http://www.regulations.gov by searching for and locating Docket No. FAA-2014-0730.

Relevant Service Information

Zodiac Seats France has issued Sicma Aero Seat Service Bulletin 90-25-012, Issue 6, dated January 25, 2012, including Annex 1, Issue 3, dated January 25, 2012. The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently installed on airplanes registered in the United States. However, this rule is necessary to ensure that the described unsafe condition is addressed if any of these products are installed on airplanes that are on the U.S. Register in the future.

FAA's Determination of the Effective Date

Since there are currently no domestic operators of airplanes that are equipped with this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2014-0730; Directorate Identifier 2013-NM-206-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 0 seat assemblies installed on, but not limited to, transport airplanes of U.S. registry.

We also estimate that it will take about 1 work-hour per seat assembly to comply with the basic requirements of this AD. The average labor rate is $85 per work-hour. Required parts will cost about $227 per product. Based on these figures, we estimate the cost of the actions required by this AD is $312 per seat assembly.

According to the manufacturer, the parts costs of this AD may be covered under warranty, thereby reducing the cost impact on affected individuals. We do not control warranty coverage for affected individuals.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-07-05, Amendment 39-16642 (76 FR 18020, April 1, 2011), and adding the following new AD:

2014-20-11 Zodiac Seats France (formerly Sicma Aero Seat): Amendment 39-17984. Docket No. FAA-2014-0730; Directorate Identifier 2013-NM-206-AD.

(a) Effective Date

This AD becomes effective October 22, 2014.

(b) Affected ADs

This AD replaces AD 2011-07-05, Amendment 39-16642 (76 FR 18020, April 1, 2011).

(c) Applicability

This AD applies to Zodiac Seats France 9140, 9166, 9173, 9174, 9184, 9188, 9196, 91B7, 91B8, 91C0, 91C2, 91C4, 91C5, 91C9, 9301, and 9501 series passenger seat assemblies; identified in Annex 1, Issue 3, dated January 25, 2012, of Sicma Aero Seat Service Bulletin 90-25-012, Issue 6, dated January 25, 2012. These passenger seat assemblies are installed on, but not limited to, the airplanes identified in paragraphs (c)(1), (c)(2) and (c)(3) of this AD, certificated in any category.

(1) Airbus Model A330-200, A330-200 Freighter, and A320-300 series airplanes.

(2) Airbus Model A340-200, A340-300, A340-500, and A340-600 series airplanes.

(3) The Boeing Company Model 777-200, 777-200LR, 777-300, 777-300ER, and 777F series airplanes.

(d) Subject

Air Transport Association (ATA) of America Code 25: Equipment/Furnishings.

(e) Reason

This AD was prompted by a report of cracks in the backrest links on certain seats. We are issuing this AD to detect and correct cracks in the backrest links, which could affect the structural integrity of seat backrests. Failure of the backrest links could result in injury to an occupant during emergency landing conditions.

(f) Compliance

Comply with this AD within the compliance times specified, unless already done.

(g) Repetitive Inspections

At the later of the times specified in paragraphs (g)(1) and (g)(2) of this AD: Do a general visual inspection for cracking of seat backrest links having part number (P/N) 90-000200-104-1, P/N 90-000200-104-2, P/N 90-000202-104-1 and P/N 90-000202-104-2, in accordance with the “PART ONE: GENERAL INTERMEDIATE CHECKING PROCEDURE” of the Accomplishment Instructions of Sicma Aero Seat Service Bulletin 90-25-012, Issue 6, dated January 25, 2012, including Annex 1, Issue 3, dated January 25, 2012. If no cracking is found on any link, repeat the inspection thereafter at intervals not to exceed 900 flight hours on the seat or 5 months since the most recent inspection, whichever occurs later, until the replacement specified in paragraph (i) of this AD is done.

(1) Within 6,000 flight hours on the seat or 2 years, whichever occurs later after the seat manufacturing date or after the backrest link replacement.

(2) Within 900 flight hours on the seat after the effective date of this AD, but no later than 5 months after the effective date of this AD.

(h) Corrective Actions

(1) If, during any inspection required by paragraph (g) of this AD, any cracking is found on the link and no crack length exceeds the lock-out pin-hole as specified in Figure 2 or 4, as applicable, of Sicma Aero Seat Service Bulletin 90-25-012, Issue 6, dated January 25, 2012, including Annex 1, Issue 3, dated January 25, 2012: Within 600 flight hours on the seat or 3 months, whichever occurs later after crack identification, replace the cracked link with a new link, in accordance with “PART TWO: ROUTINE REPLACEMENT PROCEDURE (EXCEPT FOR SERIES 91B7, 91B8 & 91C5)” or “PART THREE: ROUTINE REPLACEMENT PROCEDURE (FOR SERIES 91B7, 91B8 & 91C5)” of the Accomplishment Instructions of Sicma Aero Seat Service Bulletin 90-25-012, Issue 6, dated January 25, 2012, including Annex 1, Issue 3, dated January 25, 2012.

(2) If, during any inspection required by paragraph (g) of this AD, any cracking is found on the link and any crack length exceeds the lock-out pin-hole as specified in Figure 2 or 4, as applicable, of Sicma Aero Seat Service Bulletin 90-25-012, Issue 6, dated January 25, 2012, including Annex 1, Issue 3, dated January 25, 2012: Before further flight, replace the cracked link with a new link, in accordance with “PART TWO: ROUTINE REPLACEMENT PROCEDURE (EXCEPT FOR SERIES 91B7, 91B8 & 91C5)” or “PART THREE: ROUTINE REPLACEMENT PROCEDURE (FOR SERIES 91B7, 91B8 & 91C5)” of the Accomplishment Instructions of Sicma Aero Seat Service Bulletin 90-25-012, Issue 6, dated January 25, 2012, including Annex 1, Issue 3, dated January 25, 2012.

(i) Replacement

At the later of the times specified in paragraphs (i)(1) and (i)(2) of this AD: Replace all seat backrest links, having P/N 90-000200-104-1, P/N 90-000200-104-2,P/N 90-000202-104-1 and P/N 90-000202-104-2, with new links, in accordance with “PART TWO: ROUTINE REPLACEMENT PROCEDURE (EXCEPT FOR SERIES 91B7, 91B8 & 91C5)” or “PART THREE: ROUTINE REPLACEMENT PROCEDURE (FOR SERIES 91B7, 91B8 & 91C5)” of the Accomplishment Instructions of Sicma Aero Seat Service Bulletin 90-25-012, Issue 6, dated January 25, 2012, including Annex 1, Issue 3, dated January 25, 2012.

(1) Within 12,000 flight hours on the seat or 4 years, whichever occurs later after from the seat manufacturing date or after the backrest link replacement.

(2) Within 3,500 flight hours on the seat after the effective date of this AD, but no later than 18 months after the effective date of this AD.

(j) Credit for Previous Actions

This paragraph provides credit for actions required by paragraphs (g), (h), and (i) of this AD, if those actions were performed before the effective date of this AD using the service information specified in paragraph (j)(1), (j)(2), or (j)(3) of this AD.

(1) Sicma Aero Seat Service Bulletin 90-25-012, Issue 3, dated October 3, 2001, which is not incorporated by reference in this AD.

(2) Sicma Aero Seat Service Bulletin 90-25-012, Issue 4, dated December 19, 2001, which is not incorporated by reference in this AD.

(3) Sicma Aero Seat Service Bulletin 90-25-012, Issue 5, dated March 19, 2004, including Annex 1, Issue 2, dated March 19, 2004, which is incorporated by reference in AD 2011-07-05, Amendment 39-16642 (76 FR 18020, April 1, 2011).

(k) Other FAA AD Provisions

The following provisions also apply to this AD:

(1) Alternative Methods of Compliance (AMOCs): The Manager, Boston Aircraft Certification Office (ACO), FAA, has the authority to approve AMOCs for this AD, if requested using the procedures found in 14 CFR 39.19. In accordance with 14 CFR 39.19, send your request to your principal inspector or local Flight Standards District Office, as appropriate. If sending information directly to the ACO, send it to ATTN: Jeffrey Lee, Aerospace Engineer, Boston Aircraft Certification Office, FAA, Engine & Propeller Directorate, 12 New England Executive Park, Burlington, MA 01803; telephone (781) 238-7161; fax (781) 238-7199. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, Boston Aircraft Certification Office, FAA; or the European Aviation Safety Agency (EASA).

(l) Related Information

Refer to Mandatory Continuing Airworthiness Information (MCAI) European Aviation Safety Agency Airworthiness Directive 2012-0038, dated March 12, 2012, for related information. You may examine the MCAI on the Internet at http://www.regulations.gov by searching for and locating Docket No. FAA-2014-0730.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Sicma Aero Seat Service Bulletin 90-25-012, Issue 6, dated January 25, 2012, including Annex 1, Issue 3, dated January 25, 2012.

(ii) Reserved.

(3) For service information identified in this AD, contact Zodiac Seats France, 7, Rue Lucien Coupet, 36100 ISSOUDUN, France; telephone +33 (0) 2 54 03 39 39; fax +33 (0) 2 54 03 39 00; email customerservices@sicma.zodiac.com; Internet http://www.sicma.zodiacaerospace.com/en/.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 23, 2014.
Dionne Palermo,
Acting Manager, Transport Airplane Directorate, Aircraft Certification Service.

[FR Doc. 2014-23538 Filed 10-6-14; 8:45 am]

BILLING CODE 4910-13-P